DEPARTMENT OF COMMERCE

National Oceanic and Atmospheric Administration

Integrated Ocean Observation System; Public Meeting

AGENCY: National Ocean Service, NOAA, Department of Commerce.

ACTION: Notice of open meeting.

SUMMARY: Notice is hereby given to those interested of a public meeting on the Integrated Ocean Observing System (IOOS), in New York, New York. The meeting is focused on the needs and questions from the maritime navigational services community as a participant/user in IOOS, but will address IOOS development and implementation and NOAA's role and responsibilities as part of IOOS. Attendees are asked to register for the meeting on-line no later than Monday July 26, 2004, with the National Ocean Service (see Supplementary Information, below).

DATES: The meeting will be held on Friday, July 30, from 8 a.m. to 4 p.m.

ADDRESSES: The meeting will be held at the Crowne Plaza Times Square, 1605 Broadway, Manhattan, New York, (212) 977-4000.

FOR FURTHER INFORMATION CONTACT: Mr. Mike Szabados, Director, Center for Operational Oceanographic Products and Services (CO-OPS), 1305 East-West Highway, Silver Spring, Maryland 20910, mike.szabados@noaa.gov, (301) 713-2981.

SUPPLEMENTARY INFORMATION: The meeting will be open to public participation. Morning sessions are briefings about IOOS. The afternoon sessions beginning at 1:30 p.m. will be for comments, issues and concerns, with interactive, facilitated discussions, including time for direct verbal comments or questions from the public. Each individual or group making a verbal comment will be limited to a total time of five (5) minutes. Written comments may be submitted on-line or at the meeting. Approximately 75 seats will be available for the public. Seats will be available on a first-come, first served basis. To assist in the management of the meeting, all participants are asked to register for the meeting on the NOAA/NOS Web site, found at: http://www8.nos.noaa.gov/ioos/ no later than close of business July 26, 2004.

Matters to be Considered: The meeting will include discussion on the following topics: (1) Integrated Ocean Observing System (IOOS); (2) the National Oceanic and Atmospheric Administration's (NOAA) contribution to the IOOS National Backbone; (3) IOOS Recommendations of the U.S. Commission on Ocean Policy; and, (4) IOOS Regional Associations stakeholder outreach.

Dated: July 14, 2004.
Mike Szabados,
Director, Center for Operational Oceanographic, Products and Services (CO-OPS), National Ocean Service, National Oceanic and Atmospheric Administration.

[FR Doc. 04-16402 Filed 7-16-04; 8:45 am]

BILLING CODE 3410-JE-P